DEPARTMENT OF COMMERCE

International Trade Administration

[A-588-869]

Diffusion-Annealed, Nickel-Plated Flat-Rolled Steel Products From Japan: Final Results of Antidumping Duty Administrative Review; 2021-2022

AGENCY: Enforcement and Compliance, International Trade Administration, Department of Commerce.

SUMMARY: The U.S. Department of Commerce (Commerce) determines that Toyo Kohan Co., Ltd. (Toyo Kohan) made sales of subject merchandise at less than normal value during the period of review (POR), May 1, 2021, through April 30, 2022.

DATES: Applicable December 8, 2023.

FOR FURTHER INFORMATION CONTACT: Amaris Wade, AD/CVD Operations, Office II, Enforcement and Compliance, International Trade Administration, U.S. Department of Commerce, 1401 Constitution Avenue NW, Washington, DC 20230; telephone: (202) 482-6334.

SUPPLEMENTARY INFORMATION:

Background

On June 6, 2023, Commerce published in the Federal Register the preliminary results of the 2021-2022 administrative review of the antidumping duty order on diffusion-annealed, nickel-plated flat-rolled steel products (nickel-plated steel products) from Japan.¹ This review covers one producer/exporter of the subject merchandise, Toyo Kohan. We invited interested parties to comment on the Preliminary Results.² On July 6, 2023, we received case briefs from the petitioner ³ and from Toyo Kohan.⁴ On September 14, 2023, Commerce extended the deadline for the final results of review until December 1, 2023.⁵ For a complete description of the events that occurred since the Preliminary Results, see the Issues and Decision Memorandum.⁶ Commerce conducted this review in accordance with section 751(a)(1)(B) of the Tariff Act of 1930, as amended (the Act).

¹ See Diffusion-Annealed, Nickel-Plated Flat-Rolled Steel Products from Japan: Preliminary Results of Antidumping Duty Administrative Review, and Rescission, in Part; 2021-2022, 88 FR 37029 (June 6, 2023) (Preliminary Results), and accompanying Preliminary Decision Memorandum.

² See Preliminary Results, 88 FR at 37029.

³ See Petitioner's Letter, “Case Brief of Thomas Steel Strip Corporation,” dated July 6, 2023. The petitioner is Thomas Steel Strip Corporation.

⁴ See Toyo Kohan's Letter, “Toyo Kohan's Case Brief,” dated July 6, 2023.

⁵ See Memorandum, “Extension of Deadline for Final Results of Antidumping Duty Administrative Review,” dated September 14, 2023.

⁶ See Memorandum, “Issues and Decision Memorandum for the Final Results of the Administrative Review of the Antidumping Duty Order on Diffusion-Annealed, Nickel-Plated Flat-Rolled Steel Products from Japan; 2021-2022,” dated concurrently with, and hereby adopted by, this notice (Issues and Decision Memorandum).

Scope of the Order ⁷

⁷ See Diffusion-Annealed, Nickel-Plated Flat-Rolled Steel Products from Japan: Antidumping Duty Order, 79 FR 30816 (May 29, 2014) (Order).

The products covered by the Order are nickel-plated steel products. A full description of the scope of the Order is contained in the Issues and Decision Memorandum.

Analysis of Comments Received

All issues raised in the case briefs that were submitted by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on a review of the record and the comments received from interested parties regarding our Preliminary Results, and for the reasons explained in the Issues and Decision Memorandum, we made certain changes to the weighted-average dumping margin calculations for Toyo Kohan for the final results of review.⁸

⁸ See Issues and Decision Memorandum.

Final Results of Review

We determine that the following weighted-average dumping margin exists for the period May 1, 2021, through April 30, 2022:

Producer/exporter | Weighted- average dumping margin (percent)
Toyo Kohan Co., Ltd | 0.92

Disclosure

We intend to disclose the calculations performed in connection with these final results of review to interested parties in this proceeding within five days after public announcement of the final results or, if there is no public announcement, within five days of the date of publication of the notice of final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

For Toyo Kohan, we calculated importer-specific ad valorem duty assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties.

For entries of subject merchandise during the POR produced by Toyo Kohan for which it did not know that its merchandise was destined for the United States, we will instruct CBP to liquidate unreviewed entries at the all-others rate established in the less-than-fair-value (LTFV) investigation of 45.42 percent ad valorem,⁹ if there is no rate for the intermediate company(ies) involved in the transaction.

⁹ See Order, 79 FR at 30816.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of nickel-plated steel products entered, or withdrawn from warehouse, for consumption on or after the date of publication as provided by section 751(a)(2) of the Act: (1) the cash deposit rates for the company subject to this review will be equal to the weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original LTFV investigation but the producer has been covered in a prior completed segment of this proceeding, then the cash deposit rate will be the rate established in the completed segment for the most recent period for the producer of the merchandise; and (4) the cash deposit rate for all other producers or exporters will continue to be 45.42 percent, the all-others rate established in the LTFV investigation for this proceeding.¹⁰ These cash deposit requirements, when imposed, shall remain in effect until further notice.

¹⁰ See Order, 79 FR at 30816.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice also serves as the only reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing this notice in accordance with sections 751(a)(1) and 777(i) of the Act and 19 CFR 351.221(b)(5).

Dated: November 30, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Kohan Shoji Co., Ltd.'s (Kohan Shoji) Billing Adjustments

Comment 2: Incorrect Date of Sale

Comment 3: Incorrect Comparison Market Database

VI. Recommendation

[FR Doc. 2023-26936 Filed 12-7-23; 8:45 am]

BILLING CODE 3510-DS-P